DEPARTMENT OF TRANSPORTATION

Federal Transit Administration

[Docket No. FTA-2024-0015]

Third Party Contracting Guidance; Delay of Applicability Date

AGENCY: Federal Transit Administration (FTA), Department of Transportation (DOT).

ACTION: Final circular; delay of applicability date.

SUMMARY: This document delays the applicability date of the January 16, 2025, Third-Party Contracting Guidance Circular (C 4220.1G), which makes updates to reflect statutory and regulatory changes that have occurred since the previous update in C 4220.1F.

DATES: The applicability date of Circular 4220.1G published on January 16, 2025, is delayed from February 18, 2025, until March 20, 2025.

ADDRESSES: Correspondence related to this guidance should refer to the docket number set forth above (FTA-2024-0015) and be submitted to the Executive Director, Federal Transit Administration, 1200 New Jersey Avenue SE, Washington, DC 20590.

FOR FURTHER INFORMATION CONTACT: For third party contracting issues, contact Tara Murphy, Division Chief, Office of Administration, Federal Transit Administration, 1200 New Jersey Ave. SE, Room E41-311, Washington, DC 20590, phone: (202) 366-5647 or email tara.murphy@dot.gov. For legal issues, Christopher Hall, Office of Chief Counsel, same address, Room E56-316, phone (202) 941-9595 or email christopher.hall@dot.gov.

SUPPLEMENTARY INFORMATION: In accordance with the memorandum of January 20, 2025, from the President to executive departments and agencies, titled “Regulatory Freeze Pending Review” (90 FR 8249), this action delays the applicability date of the guidance document entitled, “Third-Party Contracting Guidance Circular,” published in the Federal Register on January 16, 2025, at 90 FR 4838, until 60 days after the date of the President's memorandum. This guidance cancels and replaces the previous Third-Party Contracting Guidance dated March 18, 2013 (C 4220.1F). It updates FTA guidance for recipient procurements financed with FTA assistance (third party contracts) to reflect updates to statutory and regulatory text that have occurred since 2013. It also responds to several changes requested by commenters.

This action is exempt from notice and comment requirements in 5 U.S.C. 553 and is effective immediately upon publication in the Federal Register, based on the impracticability exception in 5 U.S.C. 553(b)(4)(B) and 5 U.S.C. 553(d)(3). Seeking public comment is impracticable given the imminence of the original applicability date, and the temporary delay in applicability date is necessary to give Department officials the opportunity for further review and consideration, consistent with the President's memorandum of January 20, 2025.

Authority: 49 CFR 1.91.

Matthew J. Welbes,
Executive Director.

[FR Doc. 2025-02519 Filed 2-11-25; 8:45 am]

BILLING CODE 4910-57-P